DEPARTMENT OF COMMERCE

Submission for OMB Review; Comment Request

The Department of Commerce (DOC) will submit to the Office of Management and Budget (OMB) for clearance the following proposal for collection of information under the provisions of the Paperwork Reduction Act (44 U.S.C. Chapter 35).

Agency: Bureau of Economic Analysis (BEA).

Title: Expenditures Incurred by Recipients of Biomedical Research Awards from the National Institutes of Health (NIH).

OMB Control Number: None.

Form Number: None.

Type of Review: Regular submission.

Burden Hours: 1,650.

Number of Respondents: 150.

Average Hours Per Response: 11.

Needs and Uses: The survey to obtain the distribution of expenditures incurred by recipients of biomedical research awards from the National Institutes of Health Research (NIH) will provide information on how the NIH award amounts are expended across several major categories. This information, along with wage and price data from other published sources, will be used to generate the Biomedical Research and Developmental Price Index (BRDPI). The Bureau of Economic Analysis (BEA) of the Department of Commerce develops this index for the National Institutes of Health (NIH) under reimbursable contract. The BRDPI is an index of prices paid for the labor, supplies, equipment, and other inputs required to perform the biomedical research the NIH supports in its intramural laboratories and through its awards to extramural organizations. The BRDPI is a vital tool for planning the NIH research budget and analyzing future NIH programs. A survey of award recipient entities is currently the only means for updating the expenditure categories that are used to prepare the BRDPI.

Affected Public: Business or other for-profit organizations, and not-for-profit institutions.

Frequency: Annually.

Respondent's Obligations: Voluntary.

Legal Authority: 45 CFR Subpart C, Post-Award Requirements, Sections 74.21 and 74.53; 42 U.S.C. 282; Economy Act (31 U.S.C. 1535 and 1536); 15 U.S.C. 1525; and 15 U.S.C. 1527a.

OMB Desk Officer: Paul Bugg, (202) 395-3093.

Copies of the above information collection proposal can be obtained by calling or writing Diana Hynek, Departmental Paperwork Clearance Officer, (202) 482-0266, Office of the Chief Information Officer, Department of Commerce, Room 6625, 14th Street and Constitution Avenue, NW., Washington DC 20230, or via the Internet at dHynek@doc.gov.

Send comments on the proposed information collection within 30 days of publication of this notice to Paul Bugg, OMB Desk Officer, via the Internet at pbugg@omb.eop.gov or by fax (202) 395-7245.

Dated: January 29, 2008.
Gwellnar Banks,
Management Analyst, Office of the Chief Information Officer.

[FR Doc. E8-1831 Filed 1-31-08; 8:45 am]

BILLING CODE 3510-06-P